DEPARTMENT OF HOMELAND SECURITY

[Docket No. FLETC-2007-0001]

Federal Law Enforcement Training Center; Advisory Committee to the Office of State and Local Training

AGENCY: Federal Law Enforcement Training Center (FLETC), DHS.

ACTION: Committee Management; Notice of Federal Advisory Committee Meeting.

SUMMARY: The Advisory Committee to the Office of State and Local Training (OSL) will meet on April 25, 2007, in Brunswick, GA. The meeting will be open to the public.

DATES: The Advisory Committee to the Office of State and Local Training will meet Wednesday, April 25, 2007, from 8 a.m. to 4 p.m. Please note that the meeting may close early if the committee has completed its business.

ADDRESSES: The meeting will be held at the Holiday Inn Hotel and Suites, 138 Glynco Parkway, Brunswick, GA. Send written material, comments, and/or requests to make an oral presentation to the contact person listed below by April 6th. Requests to have a copy of your material distributed to each member of the committee prior to the meeting should reach the contact person at the address below by April 6th. Comments must be identified by FLETC-2007-0001 and may be submitted by one of the following methods:

• Federal eRulemaking Portal: http://www.regulations.gov. Follow the instructions for submitting comments.

• E-mail: reba.fischer@dhs.gov. Include docket number in the subject line of the message.

• Fax: (912) 267-3531. (Not a toll-free number).

• Mail: Reba Fischer, Designated Federal Officer (DFO), Federal Law Enforcement Training Center, Department of Homeland Security, 1131 Chapel Crossing Road, Townhouse 396, Glynco, GA 31524.

Instructions: All submissions received must include the words “Department of Homeland Security” and the docket number for this action. Comments received will be posted without alteration at www.regulations.gov, including any personal information provided.

Docket: For access to the docket to read background documents or comments received by the Advisory Committee to the Office of State and Local Training, go to www.regulations.gov.

FOR FURTHER INFORMATION CONTACT: Reba Fischer, Designated Federal Officer, Federal Law Enforcement Training Center, Department of Homeland Security, 1131 Chapel Crossing Road, Townhouse 396, Glynco, GA 31524; (912) 267-2343; reba.fischer@dhs.gov.

SUPPLEMENTARY INFORMATION: Notice of this meeting is given under the Federal Advisory Committee Act, 5 U.S.C. App. (Pub. L. 92-463). The mission of the Advisory Committee to the Office of State and Local Training is to advise and make recommendations on matters relating to the selection, development, content and delivery of training services by the OSL/FLETC to its state, local, campus, and tribal law enforcement customers.

Draft Agenda:

The draft agenda for this meeting includes briefings to update committee members on OSL and FLETC training initiatives and discussion to identify training needs having a direct impact on state, local, campus, and tribal law enforcement officers.

Procedural:

This meeting is open to the public. Please note that the meeting may close early if all business is finished.

Visitors must pre-register attendance to ensure adequate seating. Please provide your name and telephone number by close of business on April 6, 2007, to Reba Fischer (contact information above).

Information on Services for Individuals with Disabilities: For information on facilities or services for individuals with disabilities or to request special assistance at the meeting, contact Reba Fischer as soon as possible.

Dated: March 23, 2007.
Denise L. Franklin,
Acting Deputy Assistant Director, Office of State and Local Law Enforcement Training.

[FR Doc. 07-1644 Filed 4-3-07; 8:45 am]

BILLING CODE 4810-32-P